DEPARTMENT OF JUSTICE

Federal Bureau of Investigation

Criminal Justice Information Services Division; Agency Information Collection Activities: Proposed Collection; Comments Requested

ACTION: 60-Day Notice of Information Collection Under Review: Extension of a Currently Approved Collection Return A-Monthly Return of Offenses Known to the Police and Supplement to Return A-Monthly Return of Offenses Known to the Police.

The Department of Justice (DOJ), FBI, Criminal Justice Information Services Division has submitted the following information collection request to the Office of Management and Budget (OMB) for review and approval in accordance with the Paperwork Reduction Act of 1995. The proposed information collection is published to obtain comments from the public and affected agencies. Comments are encouraged and will be accepted for “sixty days” until July 14, 2003. This process is conducted in accordance with 5 CFR 1320.10.

If you have comments especially on the estimated public burden or associated response time, suggestions, or need a copy of the proposed information collection instrument with instructions or additional information, please contact Gregory E. Scarbro, Unit Chief, FBI, Criminal Justice Information Services Division (CJIS), Module E-3, 1000 Custer Hollow Road, Clarksburg, West Virginia 26306, telephone (304) 625-4830 or facsimile (304) 625-3566.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a Currently Approved Collection.

(2) Title of the Form/Collection: Return A-Monthly Return of Offenses Known to the Police and Supplement to Return A-Monthly Return of Offenses Known to the Police.

(3) Agency form number, if any, and the applicable component of the Department of Justice sponsoring the collection: Form Number: 4-927A and 4-919; Criminal Justice Services Division, FBI, Department of Justice.

(4) Affected public who will be asked or required to respond, as well as a brief abstract: Primary: Local and State Law Enforcement Agencies. This collection is needed to collect data regarding criminal offenses and their respective clearances throughout the United States. Data is tabulated and published in the annual Crime in the United States.

(5) An estimate of the total number of respondents and the amount of time estimated for an average respondent to respond: There are approximately 16,971 agencies with 407,304 responses (including zero reports) at an average of 21 minutes a month devoted to compilation of data for this information collection.

(6) An estimate of the total public burden (in hours) associated with the collection: There are approximately 142,556 hours annual burden associated with this information collection.

If additional information is required contact: Mr. Robert B. Briggs, Department Clearance Officer, Policy and Planning Staff, Justice Management Division, United States Department of Justice, Patrick Henry Building, Suite 1600, 601 D Street, NW., Washington, DC 20530.

Dated: May 2, 2003.
Robert B. Briggs,
Department Clearance Officer, United States Department of Justice.

[FR Doc. 03-11928 Filed 5-13-03; 8:45 am]

BILLING CODE 4410-02-M